DEPARTMENT OF HOMELAND SECURITY

Federal Emergency Management Agency

44 CFR Part 65

[Docket No. FEMA—B-7727]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community number
Alabama:
Jefferson | Unincorporated areas of Jefferson County (06-04-BU17P) | June 28, 2007; July 5, 2007; Birmingham News | The Honorable Bettye Collins, President, Jefferson County Commission, Jefferson County, 716 Richard Arrington Jr. Boulevard North, Birmingham, Alabama 35203 | December 27, 2006 | 010217
Madison | City of Huntsville (06-04-BT85P) | June 22, 2007; June 29, 2007; Madison County Record | The Honorable Loretta Spencer, Mayor, City of Huntsville, P.O. Box 308, Huntsville, Alabama 35804 | September 28, 2007 | 010153
Madison | City of Madison (06-04-BT85P) | June 22, 2007; June 29, 2007; Madison County Record | The Honorable Sandy Kirkindall, Mayor, City of Madison, 100 Hughes Road, Madison, Alabama 35758 | September 28, 2007 | 010308
St. Clair | St. Clair County (07-04-1138P) | June 28, 2007; July 5, 2007; St. Clair News-Aegis | The Honorable Stanley D. Batemon, Chairman, St. Clair County, Board of Commissioners, 165 Fifth Avenue, Suite 100, Ashville, Alabama 35953 | July 24, 2007 | 010290
Arizona:
Maricopa | City of Mesa (07-09-0549P) | June 14, 2007; June 21,2007; Arizona Business Gazette | The Honorable Keno Hawker, Mayor, City of Mesa, P.O. Box 1466, Mesa, Arizona 85211-1466 | September 20, 2007 | 040048
Maricopa | City of Tucson (07-09-0707P) | June 21, 2007; June 28, 2007; The Daily Territorial | The Honorable Bob Walkup, Mayor, City of Tucson, P.O. Box 27210, Tucson, Arizona 85726 | June 4, 2007 | 040076
Yavapai | City of Prescott (07-09-0776P) | June 14, 2007; June 21, 2007; Prescott Daily Courier | The Honorable Rowle Simmons, Mayor, City of Prescott, 201 South Cortez Street, Prescott, Arizona 86303 | May 21, 2007 | 040098
Yavapai | Unincorporated Areas of Yavapai County (06-09-BA63P) | June 21, 2007; June 28, 2007; Prescott Daily Courier | The Honorable Chip Davis, Chairman, Yavapai County, Board of Supervisors, 10 South Sixth Street, Cottonwood, Arizona 86326 | September 27, 2007 | 040093
Arkansas:
Benton | City of Bentonville (06-06-B146P) | January 5, 2007; January 12, 2007; Benton County Daily Record | The Honorable Terry Coberly, Mayor, City of Bentonville, City Hall, 117 West Central, Bentonville, Arkansas 72712 | December 13, 2006 | 050012
Benton | City of Rogers (06-06-BJ72P) | April 18, 2007; April 25, 2007; Benton County Daily Record | The Honorable Steve Womack, Mayor, City of Rogers, 301 West Chestnut Street, Rogers, Arkansas 72756 | March 23, 2007 | 050013
Benton | Unincorporated Areas of Benton County (06-06-B146P) | January 5, 2007; January 12, 2007; Benton County Daily Record | The Honorable Gary Black, Benton County Judge, 905 Northwest Eighth Street, Bentonville, Arkansas 72712 | December 13, 2006 | 050419
Craighead | City of Jonesboro (07-06-0299P) | June 22, 2007; June 29, 2007; The Jonesboro Sun | The Honorable Doug Forman, Mayor, City of Jonesboro, 515 West Washington Avenue, Jonesboro, Arkansas 72401 | June 25, 2007 | 050048
California:
Riverside | City of Corona (07-09-0879P) | June 14, 2007; June 21, 2007; Press Enterprise | The Honorable Eugene Montanez, Mayor, City of Corona, 400 South Vicentia Avenue, Corona, California 92882 | May 31, 2007 | 060250
San Diego | Unincorporated Areas of San Diego County (07-09-0601P) | June 21, 2007; June 28, 2007; San Diego Daily Transcript | The Honorable Ron Roberts, Chairman, San Diego County, Board of Supervisors, County Administration Center, 1600 Pacific Highway, Room 335, San Diego, California 92101 | September 27, 2007 | 060284
Colorado:
El Paso | City of Colorado Springs (05-08-0638P) | January 17, 2007; January 24, 2007; El Paso County News | The Honorable Lionel Rivera, Mayor, City of Colorado Springs, P.O. Box 1575, Colorado Springs, Colorado 80901 | April 18, 2007 | 080060
El Paso | Unincorporated Areas of El Paso County (05-08-0638P) | January 17, 2007; January 24, 2007; El Paso County News | The Honorable Sallie Clark, Chairperson, El Paso County, Board of Commissioners, 27 East Vermijo Avenue, Colorado Springs, Colorado 80903 | April 18, 2007 | 080059
Jefferson | City of Golden (06-08-B552P) | June 14, 2007; June 21, 2007; The Golden Transcript | The Honorable Charles J. Baroch, Mayor, City of Golden, 701 Ridge Road, Golden, Colorado 80403 | September 20, 2007 | 080090
Jefferson | City of Golden (07-08-0043P) | June 21, 2007; June 28, 2007; The Golden Transcript | The Honorable Charles J. Baroch, Mayor, City of Golden, 701 Ridge Road, Golden, Colorado 80403 | September 27, 2007 | 080090
Jefferson | City of Lakewood (07-08-0439P) | June 14, 2007; June 21, 2007; The Golden Transcript | The Honorable Steve Burkholder, Mayor, City of Lakewood, Lakewood Civic Center South, 480 South Allison Parkway, Lakewood, Colorado 80226 | September 20, 2007 | 085075
Jefferson | Unincorporated Areas of Jefferson County (06-08-B552P) | June 14, 2007; June 21, 2007; The Golden Transcript | The Honorable Jim Congrove, Chairman, Jefferson County, Board of Commissioners, 100 Jefferson County Parkway, Golden, Colorado 80419-5550 | September 20, 2007 | 080087
Delaware: New Castle | Unincorporated Areas of New Castle County (07-03-0410P) | June 15, 2007; June 22, 2007; Newark Post | The Honorable Chris Coons, County Executive, New Castle County, 87 Reads Way, New Castle, Delaware 19720 | May 18, 2007 | 105085
Florida:
Orange | City of Orlando (05-04-A581P) | June 21, 2007; June 28, 2007; Orlando Weekly | The Honorable Buddy Dyer, Mayor, City of Orlando, P.O. Box 4990, Orlando, Florida 32802 | September 27, 2007 | 120186
Walton | Unincorporated Areas of Walton County (07-04-2769P) | June 21, 2007; June 28, 2007; Northwest Florida Daily News | The Honorable Kenneth Pridgen, Chairman, Walton County, Board of Commissioners, 17400 State Highway 83 North, DeFuniak Springs, Florida 32433 | September 27, 2007 | 120317
Georgia:
Bryan | City of Richmond Hill (07-04-0419P) | May 23, 2007; May 30, 2007; Bryan County News | The Honorable Richard R. Davis, Mayor, City of Richmond Hill, P.O. Box 250, Richmond Hill, Georgia 31324 | August 30, 2007 | 130018
Whitfield | City of Dalton (07-04-3918X) | June 1, 2007; June 8, 2007; Dalton Daily Citizen | The Honorable Raymond A. Elrod, Sr., Mayor, City of Dalton, P.O. Box 1205, Dalton, Georgia 30722 | September 20, 2007 | 130194
Illinois:
Cook | City of Chicago (07-05-1665P) | June 21, 2007; June 28, 2007; Daily Herald | The Honorable Richard M. Daley, Mayor, City of Chicago, 121 North La Salle Street, Room 504, Chicago, Illinois 60602 | July 2, 2007 | 170074
Cook | City of Des Plaines (07-05-1665P) | June 21, 2007; June 28, 2007; Daily Herald | The Honorable Anthony Arredia, Mayor, City of Des Plaines, 1420 Miner Street, Des Plaines, Illinois 60016 | July 2, 2007 | 170081
Cook | Village of Elk Grove (07-05-2483P) | June 13, 2007; June 25, 2007; Elk Grove Journal | The Honorable Craig B. Johnson, Mayor, Village of Elk Grove, 901 Wellington Avenue, Elk Grove, Illinois 60007 | August 30, 2007 | 170088
Cook | Village of Rosemont (07-05-1665P) | June 21, 2007; June 28, 2007; Daily Herald | The Honorable Donald Stephens, Village President, Village of Rosemont, Rosemont Hall, 9501 West Devon Avenue, Rosemont, Illinois 60018 | July 2, 2007 | 170156
Cook | Unincorportaed Areas of Cook County (07-05-1665P) | June 21, 2007; June 28, 2007; Daily Herald | The Honorable Todd H. Stroger, President, Cook County, Board of Commissioners, 118 North Clark Street, Room 537, Chicago, Illinois 60602 | July 2, 2007 | 170054
Cook | Unincorporated Areas of Cook County (07-05-2483P) | June 13, 2007; June 25, 2007; Elk Grove Journal | The Honorable Todd H. Stroger, President, Cook County, Board of Commissioners, 118 North Clark Street, Room 537, Chicago, Illinois 60602 | August 30, 2007 | 170054
Lake | Unincorporated Areas of Lake County (07-05-0638P) | June 14, 2007; June 21, 2007; Lake County News-Sun | The Honorable Suzi Schmidt, Chair, Lake County Board, 18 North County Street, Waukegan, Illinois 60085 | June 18, 2007 | 170357
Lake | Village of Round Lake Park (07-05-0638P) | June 14, 2007; June 21, 2007; Lake County News-Sun | The Honorable Jean McCue, Mayor, Village of Round Lake Park, 203 East Lake Shore Drive, Round Lake, Illinois 60073 | June 18, 2007 | 170391
Will | City of Lockport (07-05-0135P) | April 11, 2007; April 25, 2007; Homer Glen Sun | The Honorable Tim Murphy, Mayor, City of Lockport, 222 East Ninth Street, Lockport, Illinois 60441 | June 18, 2007 | 170703
Will | City of Naperville (07-05-0767P) | June 14, 2007; June 21, 2007; Naperville Sun | The Honorable A. George Pradel, Mayor, City of Naperville, 400 South Eagle Street, Naperville, Illinois 60540 | May 24, 2007 | 170213
Will | Unincorporated Areas of Will County (07-05-0135P) | April 11, 2007; April 25, 2007; Homer Glen Sun | The Honorable Lawrence M. Walsh, Will County Executive, 302 North Chicago Street, Joliet, Illinois 60432 | June 18, 2007 | 170695
Will | Unincorporated Areas of Will County (07-05-0767P) | June 14, 2007; June 21, 2007; Naperville Sun | The Honorable Lawrence M. Walsh, Will County Executive, 302 North Chicago Street, Joliet, Illinois 60432 | May 24, 2007 | 170695
Indiana:
Allen | Unincorporated Areas of Allen County (07-05-2787P) | June 21, 2007; June 28, 2007; Journal Gazette | The Honorable Linda K. Bloom, County Administrator, Allen County, Board of Commissioners, County Building, One East Main Street, Room 200, Fort Wayne, Indiana 46802 | September 27, 2007 | 180302
Lake | Town of St. John (06-05-BA28P) | June 21, 2007; June 28, 2007; Post-Tribune | The Honorable Michael S. Fryzel, President, Town Council, Town of St. John, 10955 West 93rd Avenue, St. John, Indiana 46373 | May 29, 2007 | 180141
Minnesota: Anoka | City of Blaine (07-05-3169P) | May 18, 2007; May 25, 2007; Blaine-Spring Lake Park Life | The Honorable Thomas Ryan, Mayor, City of Blaine, 10801 Town Square Drive Northeast, Blaine, Minnesota 55449-8101 | April 24, 2007 | 270007
Mississippi:
Leflore | City of Greenwood (06-04-BU48P) | June 21, 2007; June 28, 2007; Greenwood Commonwealth | The Honorable Sheriel Perkins, Mayor, City of Greenwood, P.O. Box 907, Greenwood, Mississippi 38935-0907 | September 27, 2007 | 280102
Leflore | Unincorporated Areas of Leflore County (06-04-BU48P) | June 21, 2007; June 28, 2007; Greenwood Commonwealth | The Honorable Robert Moore, Chairman, Leflore County Council, P.O. Box 250, Greenwood, Mississippi 38935 | September 27, 2007 | 280101
Missouri:
Greene | Unincorporated Areas of Greene County (07-07-0395P) | June 21, 2007; June 28, 2007; Springfield News Leader | The Honorable David Coonrod, Presiding Commissioner, Greene County Board of Commissioners, 933 North Roberson, Springfield, Missouri 65802 | September 27, 2007 | 290782
Phelps | City of Rolla (07-07-0005P) | June 20, 2007; June 27, 2007; Rolla Daily News | The Honorable William Jenks III, Mayor, City of Rolla, P.O. Box 979, Rolla, Missouri 65402 | September 26, 2007 | 290285
St. Louis | City of Chesterfield (06-07-B058P) | July 12, 2007; July 19, 2007; St. Louis Daily Record | The Honorable John Nations, Mayor, City of Chesterfield, 690 Chesterfield Parkway West, Chesterfield, Missouri 63017-0670 | August 23, 2007 | 290896
St. Louis | Unincorporated Area of St. Louis County (06-07-B058P) | July 12, 2007; July 19, 2007; St. Louis Daily Record | The Honorable Charlie A. Dooley, County Executive, St. Louis County, 41 South Central Avenue, Clayton, Missouri 63105 | August 23, 2007 | 290327
Nebraska:
Saunders | City of Ashland (06-07-B193P) | May 24, 2007; May 31, 2007; Ashland Gazette | The Honorable Ronna Wigg, Mayor, City of Ashland, 2304 Silver Street, Ashland, Nebraska 68003 | August 30, 2007 | 310196
Saunders | Unincorporated Areas of Saunders County (06-07-B193P) | May 24, 2007; May 31, 2007; Ashland Gazette | The Honorable Kenneth Kuncl, Chairman, Saunders County, Board of Supervisors, 109 North Railway, Prague, Nebraska 68050 | August 30, 2007 | 310195
New Mexico:
Chaves | City of Roswell (06-06-B007P) | June 28, 2007; July 5, 2007; Roswell Daily Record | The Honorable Sam D. LaGrone, Mayor, City of Roswell, P.O. Box 1837, Roswell, New Mexico 88202 | October 4, 2007 | 350006
Chaves | Unincorporated Areas of Chaves County (06-06-B007P) | June 28, 2007; July 5, 2007; Roswell Daily Record | Mr. Stanton Riggs, County Manager, Chaves County, P.O. Box 1817, Roswell, New Mexico 88202 | October 4, 2007 | 350125
New York:
Jefferson | Town of Pamelia (07-02-0466P) | June 21, 2007; June 28, 2007; Watertown Daily Times | The Honorable Lawrence Longway, Town Supervisor, Town of Pamelia, 25859 State Route 37, Watertown, New York 13601 | December 27, 2007 | 360346
Orange | Town of Chester (06-02-B447P) | June 14, 2007; June 21, 2007; Times Herald Record | Mr. William J. Tully, Town Supervisor, Town of Chester, 1786 Kings Highway, Chester, New York 10918 | November 9, 2007 | 360870
Orange | Village of Chester, (06-02-B447P) | June 14, 2007; June 21, 2007; Times Herald Record | The Honorable Joseph Battiato, Mayor, Village of Chester, 47 Main Street, Chester, New York 10918 | November 9, 2007 | 361541
Ohio:
Butler | City of Fairfield (07-05-2018P) | June 21, 2007; Middletown Journal, June 28, 2007; Journal News | The Honorable Ron D'Epifanio, Mayor, City of Fairfield, 5350 Pleasant Avenue, Fairfield, Ohio 45014 | September 27, 2007 | 390038
Licking | City of Newark (06-05-BP23P) | June 14, 2007; June 21, 2007; The Newark Advocate | The Honorable Bruce Bain, Mayor, City of Newark, 40 West Main Street, Newark, Ohio 43055 | September 20, 2007 | 390335
Warren | City of Mason (07-05-1898P) | June 21, 2007; June 28, 2007; Pulse Journal | The Honorable Charlene Pelfrey, Mayor, City of Mason, 6000 Mason-Montgomery Road, Mason, Ohio 45040 | September 27, 2007 | 390559
Oklahoma: Oklahoma | City of Oklahoma City (07-06-0604P) | June 14, 2007; June 21, 2007; The Oklahoman | The Honorable Mick Cornett, Mayor, City of Oklahoma City, 200 North Walker Street, Third Floor, Oklahoma City, Oklahoma 73102 | May 22, 2007 | 405378
Oregon: Columbia | City of St. Helens (07-10-0169P) | June 20, 2007; June 27, 2007; Scappoose South County Spotlight | The Honorable Randy Peterson, Mayor, City of St. Helens, P.O. Box 278, St. Helens, Oregon 97051 | September 26, 2007 | 410040
Pennsylvania: Chester | Borough of South Coatesville (07-03-0866X) | June 28, 2007; July 5, 2007; The Daily Local | The Honorable Gregory V. Hines, Council President, Borough of Coatesville, 136 Modena Road, South Coatesville, Pennsylvania 19320 | June 11, 2007 | 420288
Puerto Rico: Puerto Rico | Commonwealth of Puerto Rico (07-02-0196P) | May 25, 2007; May 31, 2007; San Juan Star | The Honorable Anibal Acevedo-Vila, Governor of Commonwealth of Puerto Rico, P.O. Box 82, La Fortaleza, San Juan, Puerto Rico 00901 | July 19, 2007 | 720000
South Carolina:
Anderson | Unincorporated Areas of Anderson County (06-04-C085P) | May 17, 2007; May 24, 2007; Anderson Independent Mail | Mr. Joey R. Preston, County Administrator, Anderson County, P.O. Box 8002, Anderson, South Carolina 29622 | July 26, 2007 | 450013
Berkley | Unincorporated Areas of Berkeley County (06-04-C284P) | June 20, 2007; June 27, 2007; Berkeley Independent | The Honorable Daniel W. Davis, Supervisor and County Councilman, Berkeley County, 1003 Highway 52, Moncks Corner, South Carolina 29461 | September 26, 2007 | 450029
Richland | Unincorporated Areas of Richland County (07-04-3361P) | June 15, 2007; June 22, 2007; The Columbia Star | The Honorable Joseph McEachern, Chairman, Richland County Council, Richland County Administrative Building, 2020 Hampton Street, Second Floor, Columbia, South Carolina 29204 | September 21, 2007 | 450170
Texas:
Bandera | Unincorporated Areas of Bandera County (06-06-BJ92P) | June 20, 2007; June 27, 2007; Bandera Bulletin | The Honorable Richard A. Evans, Bandera County Judge, P.O. Box 877, Bandera, Texas 78003 | September 26, 2007 | 480020
Bastrop | City of Elgin (07-06-0779P) | May 16, 2007; May 23, 2007; Elgin Courier | The Honorable Gladys Markert, Mayor, City of Elgin, 310 North Main Street, Elgin, Texas 78621 | August 30, 2007 | 480023
Bexar | City of San Antonio (07-06-0434P) | July 5, 2007; July 12, 2007; Daily Commercial Recorder | The Honorable Phil Hardberger, Mayor, City of San Antonio, P.O. Box 839966, San Antonio, Texas 78283 | October 11, 2007 | 480045
Bexar | City of Shavano Park (06-06-BK20P) | June 21, 2007; June 28, 2007; Daily Commercial Recorder | The Honorable David A. Marne, Mayor, City of Shavano Park, 900 Saddle Tree Court, Shavano Park, Texas 78231 | September 27, 2007 | 480047
Comal | Unincorporated Areas of Comal County (06-06-BB92P) | February 22, 2007; March 1, 2007; The Herald-Zeitung | The Honorable Danny Scheel, Comal County Judge, 199 Main Plaza, New Braunfels, Texas 78130 | May 24, 2007 | 485463
Collin | City of Allen (06-06-B489P) | June 14, 2007; June 21, 2007; The Allen American | The Honorable Stephen Terrell, Mayor, City of Allen, 305 Century Parkway, Allen, Texas 75013 | July 2, 2007 | 480131
Dallas | City of Coppell (06-06-BE95P) | June 13, 2007; June 20, 2007; Coppell Gazette | The Honorable Doug Stover, Mayor, City of Coppell, 255 Parkway Boulevard, Coppell, Texas 75019 | September 19, 2007 | 480170
Dallas | City of Dallas (06-06-BE95P) | June 13, 2007; June 20, 2007; Coppell Gazette | The Honorable Laura Miller, Mayor, City of Dallas, 1500 Marilla Street, Room 5/F/N, Dallas, Texas 75201 | September 19, 2007 | 480171
Dallas | City of Irving (06-06-BE95P) | June 13, 2007; June 20, 2007; Coppell Gazette | The Honorable Herbert A. Gears, Mayor, City of Irving, 825 West Irving Boulevard, Irving, Texas 75060 | September 19, 2007 | 480180
Fort Bend | Fort Bend County M.U.D. #23 (06-06-BI97P) | June 21, 2007; June 28, 2007; Fort Bend Herald | The Honorable Ellen Hughes, District President, Fort Bend County Municipal Utility, District No. 23, 1715 Misty Fawn Lane, Fresno, Texas 77545 | September 27, 2007 | 481590
Fort Bend | City of Missouri City (06-06-BI97P) | June 21, 2007; June 28, 2007; Fort Bend Herald | The Honorable Allen Owen, Mayor, City of Missouri City, 1522 Texas Parkway, Missouri City, Texas 77459 | September 27, 2007 | 480304
Fort Bend | Unincorporated Areas of Fort Bend County (06-06-BI97P) | June 21, 2007; June 28, 2007; Fort Bend Herald | The Honorable Robert E. Herbert, PhD, Fort Bend County Judge, 301 Jackson Street, Richmond, Texas 77469 | September 27, 2007 | 480228
Hood | City of Granbury (07-06-0376P) | June 20, 2007; June 27, 2007; Hood County News | The Honorable David Southern, Mayor, City of Granbury, 116 West Bridge Street, Granbury, Texas 76048 | September 26, 2007 | 480357
Jones and Taylor | City of Abliene (07-06-1080P) | June 21, 2007; June 28, 2007; Abilene Reporter-News | The Honorable Norm Archilbald, Mayor, City of Abilene, 717 Byrd Drive, Abilene, Texas 79601 | September 27, 2007 | 485450
McLennan | City of Waco (07-06-0187P) | June 21, 2007; June 28, 2007; Waco Tribune Herald | The Honorable Virginia Dupuy, Mayor, City of Waco, P.O. Box 2570, Waco, Texas 76702 | September 27, 2007 | 480461
McLennan | Unincorporated Areas of McLennan County (07-06-0187P) | June 21, 2007; June 28, 2007; Waco Tribune Herald | The Honorable Jim Lewis, McLennan County Judge, McLennan County Courthouse, 501 Washington Avenue, Waco, Texas 78701 | September 27, 2007 | 480456
Tarrant | City of Colleyville (07-06-0840P) | June 22, 2007; June 29, 2007; Colleyville Courier | The Honorable David Kelly, Mayor, City of Colleyville, 100 Main Street, Colleyville, Texas 76034 | May 30, 2007 | 480590
Tarrant | City of Fort Worth (07-06-0791P) | April 12, 2007; April 19, 2007; Star Telegram | The Honorable Michael J. Moncrief, Mayor, City of Fort Worth, 1000 Throckmorton Street, Fort Worth, Texas 76102 | July 12, 2007 | 480596
Tarrant | City of Fort Worth (07-06-0825P) | May 24, 2007; May 31, 2007; Star Telegram | The Honorable Michael J. Moncrief, Mayor, City of Fort Worth, 1000 Throckmorton Street, Fort Worth, Texas 76102 | August 30, 2007 | 480596
Tarrant | City of Haslet (07-06-1421P) | June 15, 2007; June 22, 2007; Haslet Harbinger | The Honorable Gary Hulsey, Mayor, City of Haslet, 105 Main Street, Haslet, Texas 76052 | May 29, 2007 | 480600
Tarrant | City of Mansfield (07-06-1272P) | June 22, 2007; June 29, 2007; Mansfield News Mirror | The Honorable Mel Neuman, Mayor, City of Mansfield, 1200 East Board Street, Mansfield, Texas 76063 | September 28, 2007 | 480606
Virginia:
Frederick | Unincorporated Areas of Frederick County (06-03-B184P) | June 14, 2007; June 21, 2007; Winchester Star | Mr. John Riley, Jr., County Administrator, Frederick County, 107 North Kent Street, Winchester, Virginia 22601 | September 12, 2007 | 510063
Frederick | City of Winchester (06-03-B184P) | June 14, 2007; June 21, 2007; Winchester Star | The Honorable Elizabeth Minor, Mayor, City of Winchester, 422 National Avenue, Winchester, Virginia 22601 | September 12, 2007 | 510173
West Virginia:
Greenbrier | Unincorporated Areas of Greenbrier County (07-03-0022P) | April 14, 2007; April 21, 2007; Mountain Messenger | The Honorable Betty Crookshanks, President, Greenbrier County Commission, 200 North Court Street, Lewisburg, West Virginia 24901 | July 30, 2007 | 540040
Greenbrier | City of White Sulphur Springs (07-03-0022P) | April 14, 2007; April 21, 2007; Mountain Messenger | The Honorable Debra Fogus, Mayor, City of White Sulphur Springs, 34 West Main Street, White Sulphur Springs, West Virginia 24986 | July 30, 2007 | 540045

(Catalog of Federal Domestic Assistance No. 97.022, “Flood Insurance.”)
Dated: August 21, 2007.
David I. Maurstad,
Federal Insurance Administrator of the National Flood Insurance Program, Department of Homeland Security, Federal Emergency Management Agency.

[FR Doc. E7-17341 Filed 8-30-07; 8:45 am]

BILLING CODE 9110-12-P